DEPARTMENT OF TRANSPORTATION

Federal Aviation Administration

14 CFR Part 95

Standard Instrument Approach Procedures

CFR Correction

In Title 14 of the Code of Federal Regulations, parts 60 to 139, revised as of January 1, 2002, on page 300, in § 95.17, paragraph (b)(5) is corrected by removing 39° and adding in its place 69°.

[FR Doc. 02-55526 Filed 12-26-02; 8:45 am]

BILLING CODE 1505-01-D